DEPARTMENT OF AGRICULTURE

Submission for OMB Review; Comment Request

July 12, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; OIRA_Submission@OMB.EOP.GOV or fax (202) 395-5806 and to Departmental Clearance Office, USDA, OCIO, Mail Stop 7602, Washington, DC 20250-7602. Comments regarding these information collections are best assured of having their full effect if received within 30 days of publication of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Distillers Co-Products Survey.

OMB Control Number: 0535-0247.

Summary of Collection: The National Agricultural Statistics Service (NASS) primary function is to prepare and issue official State and national estimates of crop and livestock production, disposition and prices. The goal of this NASS project is to conduct a large scale survey to measure livestock producers' use of distillers' grains and other crops, which are nutritional by-products of distilling processes, such as ethyl alcohol (ethanol) or biodiesel production. The Energy Independence and Security Act (EISA) of 2007 established targets for the production of biofuel in the United States. The renewable Fuel Standard (RFS) passed as a part of the EISA, sets target levels for fuels produced from specific feedstock categories. These distillers' by-products contain valuable protein, fiber, vitamins, and minerals and can be utilized as quality livestock feed.

Need and Use of the Information: Distillers co-products were traditionally sold to livestock operations in the vicinity of ethanol plants. Recent improvements in the milling and drying process have allowed a large portion of the co-products to be marketed in many new regions of the U.S. The survey will contact livestock and poultry operations to determine the extent of feeding of distiller's by-products, and aspects on which producers base their decisions regarding livestock and poultry feed, such as nutrient values, product consistency, product form, product testing, inclusion rates, economics, shelf life, storage, and transportation. The probability-based survey will include beef (cow/calf and feedlot), dairy, swine, and poultry species with targeted size-of-operation criteria. The survey will be conducted in all States except Alaska and Hawaii.

Description of Respondents: Farmers and Ranchers.

Number of Respondents: 59,000.

Frequency of Responses: Reporting: One-time.

Total Burden Hours: 23,386.

Charlene Parker,
Departmental Information Collection Clearance Officer.

[FR Doc. 2011-17884 Filed 7-14-11; 8:45 am]

BILLING CODE 3410-20-P